DEPARTMENT OF TRANSPORTATION

Surface Transportation Board

[Docket No. FD 35655]

Arkansas-Oklahoma Railroad, Inc.—Lease and Operation Exemption—Line of Union Pacific Railroad Company

Arkansas-Oklahoma Railroad, Inc. (AOK), a Class III rail carrier, has filed a verified notice of exemption under 49 CFR 1150.41 to lease from Union Pacific Railroad Company and to operate approximately 1.5 miles of rail line between milepost 446.5, at/near Shawnee, and milepost 445.0, east of Shawnee at Brangus Road, in Pottawatomie County, Okla.

AOK states that consummation of the transaction will occur on or about September 4, 2012. The earliest the transaction can be consummated, however, is September 5, 2012, the effective date of the exemption (30 days after the exemption was filed).

AOK certifies that its projected annual revenues as a result of this transaction will not exceed $5 million or result in the creation of a Class II or Class I rail carrier.

If the verified notice contains false or misleading information, the exemption is void ab initio. Petitions to revoke the exemption under 49 U.S.C. 10502(d) may be filed at any time. The filing of a petition to revoke will not automatically stay the effectiveness of the exemption. Stay petitions must be filed no later than August 29, 2012 (at least seven days before the exemption becomes effective).

An original and ten copies of all pleadings, referring to Docket No. FD 35655, must be filed with the Surface Transportation Board, 395 E Street SW., Washington, DC 20423-0001. In addition, one copy of each pleading must be served on Daniel A. LaKemper, General Counsel, Arkansas-Oklahoma Railroad, Inc., P.O. Box 185, Morton, IL 61550.

Board decisions and notices are available on our Web site at www.stb.dot.gov.

Decided: August 17, 2012.
By the Board, Rachel D. Campbell, Director, Office of Proceedings.
Jeffrey Herzig,
Clearance Clerk.

[FR Doc. 2012-20651 Filed 8-21-12; 8:45 am]

BILLING CODE 4915-01-P